GENERAL SERVICES ADMINISTRATION

41 CFR Parts 301-51, 301-52, 301-54, 301-70, 301-71 and 301-76

[FTR Amendment 90]

RIN 3090-AG92

Federal Travel Regulation; Mandatory Use of the Travel Charge Card

AGENCY: Office of Governmentwide Policy, GSA.

ACTION: Final rule; delay of applicability date.

SUMMARY: This document constitutes a deviation to the applicability date of the Federal Travel Regulation (FTR) provisions pertaining to payment by the Government of expenses connected with official Government travel published in the Federal Register of January 19, 2000 (65 FR 3054). Due to the difficulties involved in implementing the requirements of Public Law 105-264, October 19, 1998, regarding the required use of the travel charge card, collection of amounts owed, and reimbursement of travel expenses, the Associate Administrator for the Office of Governmentwide Policy hereby grants a class deviation that delays the applicability date until May 1, 2000, for mandatory use of the travel charge card and payment of associated penalties and interest. This delay will allow agencies time to work out the details of implementation of the mandatory use of the travel charge card regulations.

DATES: Effective Date: The effective date of this final rule remains July 16, 1999.

Applicability Date: The applicability date of the final rule published at 65 FR 3054 on January 19, 2000, is delayed from February 29, 2000, until May 1, 2000, or upon the issuance of agency implementing regulations, whichever occurs first.

FOR FURTHER INFORMATION CONTACT: Sandra Batton, Travel and Transportation Management Policy Division, at (202) 501-1538.

Dated: March 24, 2000.
G. Martin Wagner,
Associate Administrator for Governmentwide Policy.

[FR Doc. 00-7819 Filed 3-29-00; 8:45 am]

BILLING CODE 6820-34-P